FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 010982-031.

Title: Florida—Bahamas Shipowners and Operators Association.

Parties:

Arawak Line Ltd.

Bahamas Ro Ro Services (Freeport), Inc.

Caicos Cargo Ltd. d/b/a Turks Island Shipping Line

Crowley Liner Services, Inc.

G & G Marine, Inc.

Nina APS

Pioneer Shipping, Ltd.

Seaboard Marine, Ltd.

Tropical Shipping & Construction Co., Ltd.

Synopsis: The proposed modification specifies that the space chartering authority is to apply to ad hoc, emergency or interim situations that will be reported to the Commission on a quarterly calendar year basis.

Agreement No.: 011075-058.

Title: Central America Discussion Agreement.

Parties:

King Ocean Central America, S.A.

Seaboard Marine, Ltd.

Crowley Liner Services, Inc.

A.P. Moller-Maersk Sealand

APL Co. Pte. Ltd.

Nordana Line.

Caribbean American Lines, S.A.

Synopsis: The proposed amendment adds Caribbean American Lines, S.A. as a member of the Central America section of the agreement and combines the slot chartering authority and the reporting requirement into a single section of the agreement. The amendment also clarifies that the slot chartering authority is limited to ad hoc, emergency or interim situations.

Agreement No.: 011648-006.

Title: APL/Crowley/Lykes/MLL Space Charter and Sailing Agreement.

Parties:

American President Lines, Ltd. (“APL”)

APL Co. PTE LTD.(“APL”)

Crowley Liner Services, Inc.

Lykes Lines Limited, LLC. (“Lykes”)

TMM Lines Limited

Synopsis: The proposed modification: authorizes Lykes to provide vessels (formerly provided by APL) in the U.S. Gulf/Caribbean trade; requires that permanent charges in port rotations and terminal arrangements be approved unanimously; adjusts various allocation commitments between the parties and transfer of unused spaces from one to another; provides for existing commitments to outside parties; eliminates reference to discussions regard establishing a discussion agreement; changes the minimum expiration date for the agreement; and provides for arbitration and severability.

Agreement No.: 011775.

Title: NYK/WWL South America Space Charter Agreement.

Parties:

Nippon Yusen Kaisha

Wallenius Wilhelmsen Line

Synopsis: The proposed agreement establishes a space charter agreement with authority to reach agreement on rates, terms and conditions of carriage, including terms of individually executed service contracts in the trade between all U.S. Coasts and Mexico, Central and South America and the Caribbean and points served via each. Specialized vehicle-carrying vessels are to be employed.

Agreement No.: 011776.

Title: Lykes/CSAV Slot Charter Agreement.

Parties:

Lykes Lines Limited, LLC

Compania Sud Americana de Vapores S.A.

Synopsis: The proposed agreement authorizes Lykes to charter space to CSAV in the trade between U.S. Gulf Coast ports (including Puerto Rico) and ports in the Caribbean.

Agreement No.: 011777.

Title: Lykes/CCNI Slot Charter Agreement.

Parties:

Lykes Lines Limited, LLC

Compania Chilena de Navegacion Interoceanica

Synopsis: The proposed agreement authorizes Lykes to charter space to CCNI in the trade between U.S. Gulf ports (including Puerto Rico) and ports in the Caribbean.

Agreement No.: 200233-010.

Title: Packer Avenue Lease and Operating Agreement.

Parties:

Philadelphia Regional Port Authority

Astro Holdings, Inc.

Synopsis: The proposed amendment extends the agreement through December 15, 2001.

Dated: August 31, 2001.
By order of the Federal Maritime Commission.
Bryant L. VanBrakle,
Secretary.

[FR Doc. 01-22443 Filed 9-6-01; 8:45 am]

BILLING CODE 6730-01-P